DEPARTMENT OF ENERGY

Federal Energy Regulatory Commission

Sunshine Act Meeting Notice

March 12, 2009.

The following notice of meeting is published pursuant to section 3(a) of the government in the Sunshine Act (Pub. L. No. 94-409), 5 U.S.C. 552b:

Agency Holding Meeting: Federal Energy Regulatory Commission.

Date and Time: March 19, 2009. 10 a.m.

Place: Room 2C, 888 First Street, NE., Washington, DC 20426.

Status: Open.

Matters to be Considered: Agenda.

* Note— Items listed on the agenda may be deleted without further notice.

Contact Person for More Information: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

946th—Meeting
Item No. | Docket No. | Company
Administrative
A-1 | AD02-1-000 | Agency Administrative Matters.
A-2 | AD02-7-000 | Customer Matters, Reliability, Security and Market Operations.
Electric
E-1 | OMITTED.
E-2 | OMITTED.
E-3 | RM05-17-004, RM05-25-004 | Preventing Undue Discrimination and Preference in Transmission Service.
E-4 | RM05-5-013 | Standards for Business Practices and Communication Protocols for Public Utilities.
E-5 | RM08-19-000, RM09-5-000, RM06-16-005 | Mandatory Reliability Standards for the Calculation of Available Transfer Capability, Capacity Benefit Margins, Transmission Reliability Margins, Total Transfer Capability, and Existing Transmission Commitments and Mandatory Reliability Standards for the Bulk-Power System.
E-6 | RM06-22-000 | Mandatory Reliability Standards for Critical Infrastructure Protection.
E-7 | OMITTED.
E-8 | RM06-8-002 | Long-Term Firm Transmission Rights in Organized Electricity Markets.
E-9 | RM08-11-000 | Version Two Facilities Design, Connections and Maintenance Reliability Standards.
E-10 | EL03-180-035 | Enron Power Marketing, Inc. and Enron Energy Services, Inc.
| EL03-154-028 | Enron Power Marketing, Inc. and Enron Energy Services, Inc.
| EL02-114-029 | Portland General Electric Company.
| EL02-115-033 | Enron Power Marketing, Inc.
| EL02-113-031 | El Paso Electric Company, Enron Power Marketing, Inc., Enron Capital and Trade Resource Corp.
E-11 | EC08-111-000 | Franklin Resources, Inc. and its Investment Management Subsidiaries and Applicant Funds.
E-12 | OMITTED.
E-13 | ER08-1569-001 | PJM Interconnection, L.L.C.
E-14 | ER08-1065-001 | PJM Interconnection, L.L.C.
E-15 | OA08-5-003 | Southwest Power Pool, Inc.
E-16 | OA08-5-001, OA08-5-002 | Southwest Power Pool, Inc.
E-17 | EL06-80-004 | Michigan Public Power Agency v. Midwest Independent Transmission System Operator, Inc.
E-18 | EL00-95-000, EL00-98-000 | San Diego Gas & Electric Company v. Sellers of Energy and Ancillary Services Into Markets Operated by the California Independent System Operator Corporation and the California Power Exchange Corporation, Investigation of Practices of the California Independent System Operator Corporation and California Power Exchange Corporation.
E-19 | ER07-869-003, ER07-475-004, ER06-615-029 | California Independent System Operator Corporation.
E-20 | EL03-152-007 | Duke Energy Trading and Marketing, L.L.C.
| EL03-141-005, EL03-141-006 | Bonneville Power Administration.
| EL03-143-004 | California Power Exchange.
| EL03-144-004 | Cargill-Alliant, L.L.C.
| EL03-145-005 | City of Anaheim, California.
| EL03-146-006 | City of Azusa, California.
| EL03-147-007 | City of Glendale, California.
| EL03-148-004 | City of Pasadena, California.
| EL03-150-006 | City of Riverside, California.
| EL03-151-007 | Coral Power, L.L.C.
| EL03-153-007 | Dynegy Power Marketing, Inc., Dynegy Power Corporation, El Segundo Power L.L.C., Long Beach Generation L.L.C., Cabrillo Power I, L.L.C., and Cabrillo Power II, L.L.C.
| EL03-154-029 | Enron Power Marketing, Inc. and Enron Energy Services, Inc.
| EL03-155-004 | FP&L Energy.
| EL03-157-005 | Los Angeles Department of Water and Power.
| EL03-161-004 | Northern California Power Agency.
| EL03-164-004 | PGE Energy Services.
| EL03-167-006 | Public Service Company of Colorado.
| EL03-168-005, EL03-168-006 | Public Service Company of New Mexico.
| EL03-171-004, EL03-171-005 | Salt River Project Agricultural Improvement and Power District.
| EL03-174-004 | Sierra Pacific Power Company.
| EL03-176-005 | TransAlta Energy Marketing (U.S.), Inc. and TransAlta Energy Marketing (California), Inc.
| EL03-177-005, EL03-177-006 | Tucson Electric Power Company.
| EL03-178-004, EL03-178-005 | Western Area Power Administration.
| EL03-137-010 | American Electric Power Services Corporation.
| EL03-138-009 | Aquila Merchant Services, Inc.
| EL03-139-007, EL03-139-008 | Arizona Public Service, Inc.
| EL03-140-004, EL03-140-005 | Automated Power Exchange, Inc.
| EL03-142-004 | California Department of Water Resources.
| EL03-149-006 | City of Redding, California.
| EL03-156-007 | Idaho Power Company.
| EL03-158-007 | Mirant Americas Energy Marketing, L.P., Mirant California, L.L.C., Mirant Delta, L.L.C. and Mirant Potrero, L.L.C.
| EL03-159-007 | Modesto Irrigation District.
| EL03-160-006 | Morgan Stanley Capital Group.
| EL03-162-003, EL03-162-004 | Pacific Gas and Electric Company.
| EL03-163-006 | PacifiCorp.
| EL03-165-009, EL03-165-010 | Portland General Electric Company.
| EL03-166-008 | Powerex Corporation (f/k/a British Columbia Power Exchange Corporation).
| EL03-169-006, EL03-169-007 | Puget Sound Energy, Inc.
| EL03-170-007 | Reliant Resources, Inc. Reliant Energy Power Generation, and Reliant Energy Services, Inc.
| EL03-172-004, EL03-172-005 | San Diego Gas & Electric Company.
| EL03-173-007 | Sempra Energy Trading Corporation.
| EL03-175-004, EL03-175-005 | Southern California Edison Company.
| EL03-179-008 | Williams Energy Services Corporation.
| EL03-180-039 | Enron Power Marketing, Inc. and Enron Energy Services, Inc.
| EL03-181-010 | Aquila, Inc.
| EL03-182-009 | City of Glendale, California.
| EL03-183-005 | City of Redding, California.
| EL03-184-006 | Colorado River Commission.
| EL03-185-006 | Constellation Power Source, Inc.
| EL03-186-008 | Coral Power, L.L.C.
| EL03-187-008 | El Paso Merchant Energy, L.P.
| EL03-188-007 | Eugene Water and Electricity Board.
| EL03-189-009 | Idaho Power Company.
| EL03-190-006 | Koch Energy Trading, Inc.
| EL03-191-005 | Las Vegas Cogeneration, L.P.
| EL03-192-006 | MIECO.
| EL03-193-008 | Modesto Irrigation District.
| EL03-194-005 | Montana Power Company.
| EL03-195-007 | Morgan Stanley Capital Group.
| EL03-196-008 | Northern California Power Agency.
| EL03-197-009 | PacifiCorp.
| EL03-198-006 | PEPCO.
| EL03-199-008 | Powerex Corporation (f/k/a British Columbia Power Exchange Corporation).
| EL03-200-008, EL03-200-009 | Public Service Company of New Mexico.
| EL03-201-009 | Sempra Energy Trading Corporation.
| EL03-202-007 | TransAlta Energy Marketing (U.S.), Inc. and TransAlta Energy Marketing (California), Inc.
| EL03-203-005 | Valley Electric Association, Inc.
| EL02-114-030 | Portland General Electric Company.
| EL02-115-034 | Enron Power Marketing, Inc.
E-21 | RM08-7-000, RM08-7-001 | Modification of Interchange and Transmission Loading Relief Reliability Standards; and Electric Reliability Organization Interpretation of Specific Requirements of Four Reliability Standards.
E-22 | PL09-4-000 | Smart Grid Policy.
Gas
G-1 | RP09-3-000, P09-7-000, RP09-7-001, RP09-7-002 | Texas Gas Transmission, LLC.
G-2 | RP08-426-000 | El Paso Natural Gas Company.
G-3 | OMITTED.
Hydro
H-1 | P-13164-001 | Bangor Water District.
H-2 | P-2082-053 | PacifiCorp.
Certificates
C-1 | CP08-431-000 | Columbia Gas Transmission Corporation.
C-2 | CP05-130-000, CP05-130-001, CP05-130-002, CP05-130-003, CP05-130-005, CP05-132-000, CP05-132-001, CP05-132-002, CP05-132-004, CP05-395-000, CP05-395-001, CP05-395-004 | Dominion Cove Point, LNG., LP.
| CP05-131-000, CP05-131-001, CP05-131-002, CP05-131-004 | Dominion Transmission, Inc.
C-3 | CP08-104-000 | Southern Natural Gas Company.
C-4 | CP08-441-000 | CenterPoint Energy Gas Transmission Company.
| CP08-444-000 | Texas Eastern Transmission, LP.
C-5 | OMITTED.
C-6 | CP09-1-000 | Collbran Valley Gas Gathering, LLC.
C-7 | CP09-19-000 | Port Barre Investments, L.L.C. d/b/a/ Bobcat Gas Storage.
C-8 | CP06-398-001 | MoBay Storage Hub, LLC.

Kimberly D. Bose,
Secretary.

A free Web cast of this event is available through http://www.ferc.gov. Anyone with Internet access who desires to view this event can do so by navigating to http://www.ferc.gov's Calendar of Events and locating this event in the Calendar. The event will contain a link to its Web cast. The Capitol Connection provides technical support for the free Web casts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. E9-5770 Filed 3-17-09; 8:45 am]

BILLING CODE 6717-01-P